DEPARTMENT OF HOUSING AND URBAN DEVELOPMENT

[Docket No. FR-4579-FA-06]

Announcement of Funding Awards for Fiscal Year 2000 Jobs-Plus Community Revitalization Initiative for Public Housing Families

AGENCY: Office of the Assistant Secretary for Policy Development and Research, HUD.

ACTION: Announcement of funding awards.

SUMMARY: In accordance with section 210 of the VA-HUD Appropriations Act of 2000, this document notifies the public of funding provided to selected public housing authorities in the Jobs-Plus Community Revitalization Initiative for Public Housing Families of the Moving to Work Demonstration. The purpose of this document is to announce the names and addresses of the housing authorities and the amount of funds to be used to cover a portion of the cost of rent-based work incentives to families in selected public housing developments. Families in these selected developments shall be encouraged to go to work under work incentive plans approved by the Secretary and carefully tracked as part of the research and demonstration effort.

FOR FURTHER INFORMATION CONTACT: Garland E. Allen, Office of Research, Evaluation and Monitoring, Department of Housing and Urban Development, Room 8140, 451 Seventh Street, SW., Washington, DC 20410, telephone (202) 708-3700, extension 5710. To provide service for persons who are hearing- or speech-impaired, this number may be reached via TTY by dialing the Federal Information Relay Service on 1-800-877-8339, or (202) 708-1455. (Telephone numbers, other than “800” TTY number are not toll free.)

SUPPLEMENTARY INFORMATION: The Jobs-Plus Community Revitalization Initiative for Public Housing Families of the Moving to Work Demonstration was enacted in Section 204(a) of the Omnibus Consolidated Rescissions and Appropriations Act of 1996 and is administered by the Office of Research, Evaluation and Monitoring under the Assistant Secretary for Policy Development and Research. The Office of Research, Evaluation and Monitoring is also responsible for monitoring and evaluating the Jobs-Plus Initiative.

The Jobs-Plus Initiative is an innovative research program that is designed to substantially increase employment rates and earnings of residents in six experimental housing developments to become steadily employed using three main program components: (1) Employment related activities and services, including pre- and post-employment activities such as job search, education, training, job development, and case management, and support services such as child care and transportation assistance; (2) enhanced financial incentives to work, notably, reducing, the amount by which rent increases when earnings grow; and (3) a “community support for work” component, such as fostering work-related information sharing, peer support, and mutual aid among residents and with people living outside public housing. As part of the designed of Jobs-Plus, the Department agreed to provide funding to housing authorities selected for the Jobs-Plus Initiative to encourage them to create and implement innovative financial strategies to encourage residents to obtain and retain employment. The funding awarded in this notice is to cover the loss income that the housing authorities will not collect from residents as the direct result of their financial incentives for residents. During Fiscal Year 1999, the six housing authorities created financial incentives plans and HUD approved them for funding through December 31, 2003. The amount of funding provided to the housing authorities was based on each authority's estimated loss revenue as a result of the provision of incentives to residents. The amount of funding to cover the cost of financial incentives was estimated to be $12 million and $5 million of the $12 million was provided under the VA-HUD Appropriations Act of 2000. Hence, partial funding to cover the cost of the incentives are identified below.

In accordance with section 102(a)(4)(C) of the Department of Housing and Urban Development Reform Act of 1989 (103 Stat. 1987, 42 U.S.C. 3545), the Department is publishing details concerning the recipients of funding awards, as set forth below.

List of Awardees for Grant Assistance under FY 2000; Jobs-Plus Community Revitalization Initiative for Public Housing Families in the Moving to Work Demonstration, by Name and Address

1. Housing Authority of Baltimore City, 417 E. Fayette Street, Baltimore, MD 21202. Grant: $500,000.

2. Chattanooga Housing Authority, 505 W. Martin Luther King Boulevard, Chattanooga, TN 37406. Grant: $900,000.

3. Dayton Metropolitan Housing Authority, 400 Wayne Avenue, Dayton, OH 45410. Grant: $900,000.

4. Housing Authority of the City of Los Angeles, 2600 Wilshire Boulevard, Los Angeles, CA 90057. Grant: $900,000.

5. St. Paul Housing Authority, 480 Cedar Street, St. Paul, MN 55101. Grant: $900,000.

6. Seattle Housing Authority, 120 Sixth Avenue North, Seattle, WA 98109. Grant: $900,000.

Dated: March 20, 2001.
Lawrence L. Thompson,
General Deputy Assistant Secretary for Policy Development and Research.

[FR Doc. 01-7573 Filed 3-27-01; 8:45 am]

BILLING CODE 4210-62-P